ENVIRONMENTAL PROTECTION AGENCY

40 CFR Part 52

[EPA-R10-OAR-2020-0143; FRL-10007-42-Region 10]

Air Plan Approval; ID; Update to Materials Incorporated by Reference

AGENCY: Environmental Protection Agency (EPA).

ACTION: Final rule; administrative change.

SUMMARY: The Environmental Protection Agency (EPA) is updating the regulatory materials incorporated by reference into the Idaho State Implementation Plan (SIP). The regulations addressed in this action were previously submitted by the Idaho Department of Environmental Quality and approved by the EPA in prior rulemakings. This action is an administrative change that updates the SIP materials available for public inspection at the EPA Regional Office and the National Archives and Records Administration.

DATES: This action is effective July 24, 2020.

ADDRESSES: SIP materials which are incorporated by reference into 40 CFR part 52 are available for inspection at the following locations: Online at https://www.regulations.gov in the docket for this action, by appointment at the Environmental Protection Agency, Region 10, 1200 Sixth Avenue, Suite 155, Seattle, WA 98101, and by appointment at the National Archives and Records Administration (NARA). For information on the availability of this material at the EPA Regional Office, please contact the person in the FOR FURTHER INFORMATION CONTACT section of this document. For information on the availability of this material at NARA, email fedreg.legal@nara.gov, or go to: https://www.archives.gov/federal-register/cfr/ibr-locations.html.

FOR FURTHER INFORMATION CONTACT: Kristin Hall at (206) 553-6357 or hall.kristin@epa.gov.

SUPPLEMENTARY INFORMATION:

I. Background

The State Implementation Plan (SIP) is a living document revised by the state to address its unique and changing air pollution problems in a manner consistent with the requirements of Section 110 of the Clean Air Act (CAA), 42 U.S.C. 7410. As such, the state submits SIP revisions to the EPA and the EPA acts on those revisions and incorporates new and revised state regulations by reference into the Code of Federal Regulations (CFR).

On May 22, 1997, the EPA and the Office of the Federal Register (OFR) streamlined the incorporation by reference (IBR) procedures for SIPs (62 FR 27968). For a detailed description of the revised IBR procedures, please see the May 22, 1997 publication (62 FR 27968).

On January 25, 2005, the EPA published a Federal Register document beginning the revised IBR procedures for Idaho (70 FR 3479). The EPA updated the Idaho SIP regulatory materials on December 28, 2012 (77 FR 76417), and April 1, 2015 (80 FR 17333). Since the last IBR update, the EPA approved and incorporated by reference the following regulatory materials into the Idaho SIP: ¹

¹ See 81 FR 53290 (August 12, 2016), 82 FR 22083 (May 12, 2017), 83 FR 28382 (June 19, 2018), 83 FR 42033 (August 20, 2018), 84 FR 13803 (April 8, 2019), and 84 FR 67189 (December 9, 2019).

A. Added

• IDAPA 58.01.01 (Rules for the Control of Air Pollution in Idaho): Sections 011, 175, 176, 177, 178, 179, 180, 181, 790, 791, 793, 794, 795, 796, 797, 798, 799, and 818.

• Section 4 of Senate Bill 1024, Codified at Idaho Code Section 39-114.

B. Revised

• IDAPA 58.01.01 (Rules for the Control of Air Pollution in Idaho): Sections 006, 107, 157, 200, 201, 202, 401, 579, 620, 621, 725, and 815.

C. Removed

• IDAPA 58.01.01 (Rules for the Control of Air Pollution in Idaho): Sections 582, 816, 817, 821, 822, 823, 824, 825, and 826.

• Section 1 of House Bill 57, Codified at Idaho Code Section 39-114.

II. EPA Action

In this action, the EPA is updating the regulatory materials incorporated by reference into the Idaho SIP at 40 CFR 52.670(c) and (d) as of February 1, 2020.

The EPA has determined that this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in federal and approved state programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Incorporation by Reference

In this rule, the EPA is finalizing regulatory text that includes incorporation by reference. In accordance with requirements of 1 CFR 51.5, the EPA is finalizing the incorporation by reference of previously EPA-approved regulations promulgated by Idaho and federally effective prior to February 1, 2020. The EPA has made, and will continue to make, these materials generally available through www.regulations.gov and at the EPA Region 10 Office (please contact the person identified in the FOR FURTHER INFORMATION CONTACT section of this preamble for more information).

IV. Statutory and Executive Order Reviews

Under the Clean Air Act (CAA), the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, this proposed action does not apply on any Indian reservation land or in any other area where the EPA or an Indian tribe has demonstrated that a tribe has jurisdiction. In those areas of Indian country, the rule does not have tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA has also determined that the provisions of section 307(b)(1) of the CAA pertaining to petitions for judicial review are not applicable to this action. Prior EPA rulemaking actions for each individual component of the Idaho SIP compilations had previously afforded interested parties the opportunity to file a petition for judicial review in the United States Court of Appeals for the appropriate circuit within 60 days of such rulemaking action. Thus, the EPA sees no need in this action to reopen the 60-day period for filing such petitions for judicial review for this “Identification of plan” update action for Idaho.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: July 10, 2020.
Michelle Pirzadeh,
Acting Regional Administrator, Region 10.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart N—Idaho

2. Amend § 52.670 by revising paragraphs (b), (c), and (d) to read as follows:

§ 52.670 Identification of plan.

* * * * *

(b) Incorporation by reference. (1) Material listed as incorporated by reference in paragraphs (c) and (d) was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after February 1, 2020, will be incorporated by reference in the next update to the SIP compilation.

(2)(i) EPA Region 10 certifies that the rules and regulations provided by EPA at the addresses in paragraph (b)(3) of this section are an exact duplicate of the officially promulgated state rules and regulations which have been approved as part of the state implementation plan as of February 1, 2020.

(ii) EPA Region 10 certifies that the source-specific requirements provided by EPA at the addresses in paragraph (b)(3) of this section are an exact duplicate of the officially promulgated source-specific requirements which have been approved in the notebook “40 CFR 52.670(d)—Source Specific Requirements” as part of the state implementation plan as of February 1, 2020.

(3) Copies of the materials incorporated by reference may be inspected at the Environmental Protection Agency, Region 10, Air and Radiation Division, 1200 Sixth Avenue, Suite 155, Seattle, Washington 98101; or at the National Archives and Records Administration (NARA). For information on the availability of this material at NARA, email fedreg.legal@nara.gov, or go to: https://www.archives.gov/federal-register/cfr/ibr-locations.html.

(c) EPA approved regulations.

EPA Approved Idaho Regulations and Statutes
State citation | Title/subject | State effective date | EPA approval date | Explanations
Idaho Administrative Procedures Act (IDAPA) 58.01.01—Rules for the Control of Air Pollution in Idaho
001 | Title and Scope | 5/1/1994 | 1/16/2003, 68 FR 2217 |
004 | Catchlines | 5/1/1994 | 1/16/2003, 68 FR 2217 |
005 | Definitions | 5/1/1994 | 1/16/2003, 68 FR 2217 |
006 | General Definitions | 4/11/2015, 4/4/2013, 3/30/2007, 4/11/2006, 7/1/2002, 4/5/2000, 3/20/1997, 5/1/1994 | 8/12/2016, 81 FR 53290 | Except Section 006.49, 006.50, 006.51, 006.66, 006.67, 006.68.b, 006.116, and 006.118.
007 | Definitions for the Purposes of Sections 200 through 225 and 400 through 461 | 3/30/2007, 4/11/2006, 4/5/2000, 6/30/1995, 5/1/1995, 5/1/1994 | 6/9/2011, 76 FR 33647 |
011 | Definitions for the Purposes of Sections 790 through 799 | 3/15/2002 | 8/12/2016, 81 FR 53290 |
106 | Abbreviations | 5/1/1994 | 1/16/2003, 68 FR 2217 |
107 | Incorporations by Reference | 3/28/2018, 3/25/2016, 3/20/2014, 3/30/2007, 7/1/1997, 5/1/1994 | 8/20/2018, 83 FR 42033 | Except Section 107.03.f through 107.03.p.
121 | Compliance Requirements by Department | 5/1/1994 | 1/16/2003, 68 FR 2217 |
122 | Information Orders by the Department | 4/5/2000, 5/1/1994 | 1/16/2003, 68 FR 2217 |
123 | Certification of Documents | 5/1/1994 | 1/16/2003, 68 FR 2217 |
124 | Truth, Accuracy and Completeness of Documents | 5/1/1994 | 1/16/2003, 68 FR 2217 |
125 | False Statements | 3/23/1998 | 1/16/2003, 68 FR 2217 |
126 | Tampering | 3/23/1998 | 1/16/2003, 68 FR 2217 |
127 | Format of Responses | 5/1/1994 | 1/16/2003, 68 FR 2217 |
130 | Startup, Shutdown, Scheduled Maintenance, Safety Measures, Upset and Breakdown | 4/5/2000 | 1/16/2003, 68 FR 2217 |
131 | Excess Emissions | 4/5/2000 | 1/16/2003, 68 FR 2217 |
132 | Correction of Condition | 4/5/2000 | 1/16/2003, 68 FR 2217 |
133 | Start-up, Shutdown and Scheduled Maintenance Requirements | 4/11/2006, 4/5/2000, 3/20/1997 | 11/26/2010, 75 FR 72719 |
134 | Upset, Breakdown and Safety Requirements | 4/11/2006, 4/5/2000, 3/20/1997 | 11/26/2010, 75 FR 72719 |
135 | Excess Emission Reports | 4/11/2006, 4/5/2000, 3/20/1997 | 11/26/2010, 75 FR 72719 |
136 | Excess Emission Records | 4/5/2000, 3/23/1998, 3/20/1997 | 1/16/2003, 68 FR 2217 |
155 | Circumvention | 4/11/2006 | 11/26/2010, 75 FR 72719 |
156 | Total Compliance | 5/1/1994 | 1/16/2003, 68 FR 2217 |
157 | Test Methods and Procedures | 4/11/2015 | 8/12/2016, 81 FR 53290 |
160 | Provisions Governing Specific Activities and Conditions | 4/5/2000 | 1/16/2003, 68 FR 2217 |
162 | Modifying Physical Conditions | 5/1/1994 | 1/16/2003, 68 FR 2217 |
163 | Source Density | 5/1/1994 | 1/16/2003, 68 FR 2217 |
164 | Polychlorinated Biphenyls (PCBs) | 5/1/1994 | 1/16/2003, 68 FR 2217 |
175 | Procedures and Requirements for Permits Establishing a Facility Emissions Cap | 4/11/2015 | 8/12/2016, 81 FR 53290 |
176 | Facility Emissions Cap | 4/11/2015 | 8/12/2016, 81 FR 53290 | Except for provisions relating to hazardous air pollutants.
177 | Application Procedures | 4/11/2015 | 8/12/2016, 81 FR 53290 |
178 | Standard Contents of Permits Establishing a Facility Emissions Cap | 4/11/2015 | 8/12/2016, 81 FR 53290 |
179 | Procedures for Issuing Permits Establishing a Facility Emissions Cap | 4/11/2015 | 8/12/2016, 81 FR 53290 |
180 | Revisions to Permits Establishing a Facility Emissions Cap | 4/11/2015 | 8/12/2016, 81 FR 53290 |
181 | Notice and Recordkeeping of Estimates of Ambient Concentrations | 4/11/2015 | 8/12/2016, 81 FR 53290 |
200 | Procedures and Requirements for Permits to Construct | 3/25/2016 | 5/12/2017, 82 FR 22083 |
201 | Permit to Construct Required | 4/11/2006 | 8/12/2016, 81 FR 53290 |
202 | Application Procedures | 4/11/2015 | 8/12/2016, 81 FR 53290 |
203 | Permit Requirements for New and Modified Stationary Sources | 5/1/1994 | 1/16/2003, 68 FR 2217 | Except subsection 203.03.
204 | Permit Requirements for New Major Facilities or Major Modifications in Nonattainment Areas | 4/2/2008, 3/30/2007, 4/6/2005, 4/5/2000, 5/1/1994 | 11/26/2010, 75 FR 72719 |
205 | Permit Requirements for New Major Facilities or Major Modifications in Attainment or Unclassifiable Areas | 4/2/2008, 3/30/2007, 4/6/2005 | 11/26/2010, 75 FR 72719 |
206 | Optional Offsets for Permits to Construct | 4/6/2005 | 11/26/2010, 75 FR 72719 |
207 | Requirements for Emission Reduction Credit | 5/1/1994 | 1/16/2003, 68 FR 2217 |
208 | Demonstration of Net Air Quality Benefit | 4/5/2000, 5/1/1994 | 1/16/2003, 68 FR 2217 |
209 | Procedures for Issuing Permits | 4/11/2006, 4/6/2005, 5/3/2003, 7/1/2002, 4/5/2000, 3/19/1999, 3/23/1998, 5/1/1994 | 11/26/2010, 75 FR 72719 |
211 | Conditions for Permits to Construct | 5/1/1994 | 1/16/2003, 68 FR 2217 |
212 | Obligation to Comply | 5/1/1994 | 1/16/2003, 68 FR 2217 |
213 | Pre-Permit Construction | 4/11/2006, 5/3/2003, 4/5/2000, 3/23/1998 | 11/26/2010, 75 FR 72719 |
220 | General Exemption Criteria for Permit to Construct Exemptions | 4/4/2013, 4/5/2000 | 3/3/2014, 79 FR 11711 |
221 | Category I Exemption | 4/5/2000 | 1/16/2003, 68 FR 2217 |
222 | Category II Exemption | 4/4/2013, 4/11/2006, 4/5/2000, 5/1/1994, 7/1/1997 | 3/3/2014, 79 FR 11711 |
400 | Procedures and Requirements for Tier II Operating Permits | 7/1/2002 | 11/26/2010, 75 FR 72719 |
401 | Tier II Operating Permit | 4/11/2015 | 8/12/2016, 81 FR 53290 | Except 401.01.a and 401.04.
402 | Application Procedures | 7/1/2002, 5/1/1994, 4/5/2000, 7/1/2002 | 11/26/2010, 75 FR 72719 |
403 | Permit Requirements for Tier II Sources | 5/1/1994 | 1/16/2003, 68 FR 2217 |
404 | Procedure for Issuing Permits | 4/11/2006, 4/5/2000, 5/1/1994, 7/1/2002 | 11/26/2010, 75 FR 72719 |
405 | Conditions for Tier II Operating Permits | 5/1/1994 | 1/16/2003, 68 FR 2217 |
406 | Obligation to Comply | 5/1/1994 | 1/16/2003, 68 FR 2217 |
460 | Requirements for Emission Reduction Credits | 4/11/2006, 4/5/2000, 5/1/1994 | 11/26/2010, 75 FR 72719 |
461 | Requirements for Banking Emission Reduction Credits (ERC's) | 4/5/2000, 5/1/1994 | 1/16/2003, 68 FR 2217 |
500 | Registration Procedures and Requirements for Portable Equipment | 5/1/1994 | 1/16/2003, 68 FR 2217 |
510 | Stack Heights and Dispersion Techniques | 5/1/1994 | 1/16/2003, 68 FR 2217 |
511 | Applicability | 4/11/2006 | 11/26/2010, 75 FR 72719 |
512 | Definitions | 4/11/2006, 5/1/1994, 4/5/2000 | 11/26/2010, 75 FR 72719 |
513 | Requirements | 4/11/2006 | 11/26/2010, 75 FR 72719 |
514 | Opportunity for Public Hearing | 5/1/1994 | 1/16/2003, 68 FR 2217 |
515 | Approval of Field Studies and Fluid Models | 5/1/1994 | 1/16/2003, 68 FR 2217 |
516 | No Restriction on Actual Stack Height | 5/1/1994 | 1/16/2003, 68 FR 2217 |
550 | Air Pollution Emergency Rule | 5/1/1994 | 1/16/2003, 68 FR 2217 |
551 | Episode Criteria | 5/1/1994 | 1/16/2003, 68 FR 2217 |
552 | Stages | 3/15/2002, 5/1/1994 | 1/16/2003, 68 FR 2217 |
553 | Effect of Stages | 3/15/2002 | 1/16/2003, 68 FR 2217 |
556 | Criteria for Defining Levels Within Stages | 3/15/2002, 4/5/2000 | 1/16/2003, 68 FR 2217 |
557 | Public Notification | 5/1/1994 | 1/16/2003, 68 FR 2217 |
558 | Information To Be Given | 3/15/2002, 5/1/1994 | 1/16/2003, 68 FR 2217 |
559 | Manner and Frequency of Notification | 5/1/1994 | 1/16/2003, 68 FR 2217 |
560 | Notification to Sources | 4/11/2006 | 11/26/2010, 75 FR 72719 |
561 | General Rules | 4/11/2006, 5/1/1994, 3/15/2002 | 11/26/2010, 75 FR 72719 |
562 | Specific Emergency Episode Abatement Plans for Point Sources | 5/1/1994 | 1/16/2003, 68 FR 2217 |
563 | Transportation Conformity | 3/30/2001 | 4/12/2001, 66 FR 18873 |
564 | Incorporation by Reference | 3/30/2001 | 4/12/2001, 66 FR 18873 |
565 | Abbreviations | 3/30/2001 | 4/12/2001, 66 FR 18873 |
566 | Definitions for the Purpose of Sections 563 Through 574 and 582 | 3/30/2001 | 4/12/2001, 66 FR 18873 |
567 | Agencies Affected by Consultation | 3/30/2001 | 4/12/2001, 66 FR 18873 |
568 | ICC Member Roles in Consultation | 3/30/2001 | 4/12/2001, 66 FR 18873 |
569 | ICC Member Responsibilities in Consultation | 3/30/2001 | 4/12/2001, 66 FR 18873 |
570 | General Consultation Process | 3/30/2001 | 4/12/2001, 66 FR 18873 |
571 | Consultation Procedures | 3/30/2001 | 4/12/2001, 66 FR 18873 |
572 | Final Conformity Determinations by USDOT | 3/30/2001 | 4/12/2001, 66 FR 18873 |
573 | Resolving Conflicts | 3/30/2001 | 4/12/2001, 66 FR 18873 |
574 | Public Consultation Procedures | 3/30/2001 | 4/12/2001, 66 FR 18873 |
575 | Air Quality Standards and Area Classification | 4/11/2006 | 11/26/2010, 75 FR 72719 |
576 | General Provisions for Ambient Air Quality Standards | 5/1/1994 | 1/16/2003, 68 FR 2217 |
578 | Designation of Attainment, Unclassifiable, and Nonattainment Areas | 5/1/1994 | 1/16/2003, 68 FR 2217 |
579 | Baselines for Prevention of Significant Deterioration | 4/11/2015 | 8/12/2016, 81 FR 53290 |
580 | Classification of Prevention of Significant Deterioration Areas | 4/5/2000, 5/1/1994 | 1/16/2003, 68 FR 2217 |
581 | Prevention of Significant Deterioration (PSD) Increments | 10/6/2010, 4/11/2006, 7/1/1997, 5/1/1994 | 7/17/2012, 77 FR 41916 |
600 | Rules for Control of Open Burning | 4/2/2008 | 8/1/2008, 73 FR 44915 | Previous EPA Approval Date of 7/11/2005 removed in response to 9th Circuit remand.
601 | Fire Permits, Hazardous Materials and Liability | 4/2/2008 | 8/1/2008, 73 FR 44915 | Previous EPA Approval Date of 7/11/2005 removed in response to 9th Circuit remand.
602 | Nonpreemption of Other Jurisdictions | 4/2/2008 | 8/1/2008, 73 FR 44915 | Previous EPA Approval Date of 7/11/2005 removed in response to 9th Circuit remand.
603 | General Restrictions | 4/2/2008, 3/21/2003, 5/1/1994 | 8/1/2008, 73 FR 44915 | Previous EPA Approval Date of 7/11/2005 removed in response to 9th Circuit remand.
606 | Categories of Allowable Burning | 4/2/2008 | 8/1/2008, 73 FR 44915 | Previous EPA Approval Date of 7/11/2005 removed in response to 9th Circuit remand.
607 | Recreational and Warming Fires | 3/21/2003 | 8/1/2008, 73 FR 44915 | Previous EPA Approval Date of 7/11/2005 removed in response to 9th Circuit remand.
608 | Weed Control Fires | 5/1/1994 | 8/1/2008, 73 FR 44915 | Previous EPA Approval Date of 7/11/2005 removed in response to 9th Circuit remand.
609 | Training Fires | 3/21/2003 | 8/1/2008, 73 FR 44915 | Previous EPA Approval Date of 7/11/2005 removed in response to 9th Circuit remand.
610 | Industrial Flares | 3/21/2003 | 8/1/2008, 73 FR 44915 | Previous EPA Approval Date of 7/11/2005 removed in response to 9th Circuit remand.
611 | Residential Solid Waste Disposal Fires | 5/1/1994 | 1/16/2003, 68 FR 2217 |
612 | Landfill Disposal Site Fires | 3/21/2003 | 8/1/2008, 73 FR 44915 | Previous EPA Approval Date of 7/11/2005 removed in response to 9th Circuit remand.
613 | Orchard Fires | 3/21/2003, 5/1/1994 | 8/1/2008, 73 FR 44915 | Previous EPA Approval Date of 7/11/2005 removed in response to 9th Circuit remand.
614 | Prescribed Burning | 5/1/1994 | 1/16/2003, 68 FR 2217 |
615 | Dangerous Material Fires | 3/21/2003 | 8/1/2008, 73 FR 44915 | Previous EPA Approval Date of 7/11/2005 removed in response to 9th Circuit remand.
616 | Infectious Waste Burning | 3/21/2003 | 8/1/2008, 73 FR 44915 | Previous EPA Approval Date of 7/11/2005 removed in response to 9th Circuit remand.
617 | Crop Residue | 7/1/2011, 4/2/2008 | 3/19/2013, 78 FR 16790 |
618 | Permit By Rule | 7/1/2011, 4/2/2008 | 3/19/2013, 78 FR 16790 |
619 | Registration for Permit By Rule | 4/2/2008 | 8/1/2008, 73 FR 44915 |
620 | Burn Fee | 4/11/2019 | 12/9/2019, 84 FR 67189 |
621 | Burn Determination | 2/28/2018, 4/2/2008 | 6/19/2018, 83 FR 28382; 8/1/2008, 73 FR 44915 |
622 | General Provisions | 7/1/2011, 4/2/2008 | 3/19/2013, 78 FR 16790 |
623 | Public Notification | 7/1/2011, 4/2/2008 | 3/19/2013, 78 FR 16790 |
624 | Spot Burn, Baled Agricultural Residue Burn, and Propane Flaming Permits | 7/1/2011 | 3/19/2013, 78 FR 16790 |
625 | Visible Emissions | 4/2/2008 | 8/1/2008, 73 FR 44915 |
626 | General Restrictions on Visible Emissions from Wigwam Burners | 4/5/2000 | 1/16/2003, 68 FR 2217 |
650 | Rules for Control of Fugitive Dust | 5/1/1994 | 1/16/2003, 68 FR 2217 |
651 | General Rules | 3/30/2007, 5/1/1994 | 6/9/2011, 76 FR 33647 |
665 | Regional Haze Rules | 3/30/2007 | 6/9/2011, 76 FR 33647 |
666 | Reasonable Progress Goals | 3/30/2007 | 6/9/2011, 76 FR 33647 |
667 | Long-Term Strategy for Regional Haze | 3/30/2007 | 6/9/2011, 76 FR 33647 |
668 | BART Requirement for Regional Haze | 3/30/2007 | 6/9/2011, 76 FR 33647 |
675 | Fuel Burning Equipment—Particulate Matter | 4/5/2000 | 1/16/2003, 68 FR 2217 |
676 | Standards for New Sources | 5/1/1994 | 1/16/2003, 68 FR 2217 |
677 | Standards for Minor and Existing Sources | 5/1/1994 | 1/16/2003, 68 FR 2217 |
678 | Combinations of Fuels | 5/1/1994 | 1/16/2003, 68 FR 2217 |
679 | Averaging Period | 4/11/2006, 5/1/1994 | 11/26/2010, 75 FR 72719 |
680 | Altitude Correction | 5/1/1994 | 1/16/2003, 68 FR 2217 |
681 | Test Methods and Procedures | 4/5/2000 | 1/16/2003, 68 FR 2217 |
700 | Particulate Matter Process Weight Limitations | 5/3/2003, 4/5/2000 | 11/26/2010, 75 FR 72719 |
701 | Particulate Matter—New Equipment Process Weight Limitations | 4/5/2000 | 1/16/2003, 68 FR 2217 |
702 | Particulate Matter—Existing Equipment Process Weight Limitations | 4/5/2000, 5/1/1994 | 1/16/2003, 68 FR 2217 |
703 | Particulate Matter—Other Processes | 4/5/2000 | 1/16/2003, 68 FR 2217 |
725 | Rules for Sulfur Content of Fuels | 4/11/2015 | 8/12/2016, 81 FR 53290 |
785 | Rules for Control of Incinerators | 5/1/1994 | 1/16/2003, 68 FR 2217 |
786 | Emission Limits | 4/5/2000 | 1/16/2003, 68 FR 2217 |
787 | Exceptions | 3/23/1998 | 1/16/2003, 68 FR 2217 |
790 | Rules for the Control of Nonmetallic Mineral Processing Plants | 3/15/2002 | 8/12/2016, 81 FR 53290. |
791 | General Control Requirements | 3/15/2002 | 8/12/2016, 81 FR 53290 |
793 | Emissions Standards for Nonmetallic Mineral Processing Plants not Subject to 40 CFR 60, Subpart OOO | 3/15/2002 | 8/12/2016, 81 FR 53290 |
794 | Permit Requirements | 4/11/2015 | 8/12/2016, 81 FR 53290 | Except Section 794.04.
795 | Permit by Rule Requirements | 3/15/2002 | 8/12/2016, 81 FR 53290 |
796 | Applicability | 3/15/2002 | 8/12/2016, 81 FR 53290 |
797 | Registration for Permit by Rule | 3/15/2002 | 8/12/2016, 81 FR 53290 |
798 | Electrical Generators | 3/15/2002 | 8/12/2016, 81 FR 53290 |
799 | Nonmetallic Mineral Processing Plan Fugitive Dust Best Management Practice | 3/15/2002 | 8/12/2016, 81 FR 53290 |
805 | Rules for Control of Hot-mix Asphalt Plants | 5/1/1994 | 1/16/2003, 68 FR 2217 |
806 | Emission Limits | 5/1/1994 | 1/16/2003, 68 FR 2217 |
807 | Multiple Stacks | 5/1/1994 | 1/16/2003, 68 FR 2217 |
808 | Fugitive Dust Control | 5/1/1994 | 1/16/2003, 68 FR 2217 |
815 | Rules for Control of Kraft Pulp Mills | 3/29/2012 | 4/8/2019, 84 FR 13803 |
818 | Kraft Pulp Mill LVHC and HVLC Gas Venting Notification and Reporting | 3/29/2012 | 4/8/2019, 84 FR 13803 |
845 | Rules for Control of Sulfur Oxide Emissions from Sulfuric Acid Plants | 5/1/1994 | 1/16/2003, 68 FR 2217 |
846 | Emission Limits | 4/5/2000 | 1/16/2003, 68 FR 2217 |
847 | Monitoring and Testing | 4/5/2000 | 1/16/2003, 68 FR 2217 |
848 | Compliance Schedule | 5/1/1994 | 1/16/2003, 68 FR 2217 |
City and County Ordinances
City of Sandpoint Ordinance No. 939 | Material Specifications for Street Sanding Material | 2/22/1994 (City adoption date) | 6/26/2002, 67 FR 43006 | Sandpoint PM10 Nonattainment Area Plan.
City of Sandpoint Chapter 8 Air Quality (4-8-1 through 4-8-14) | Solid Fuel Heating Appliances | 9/21/2011 (City adoption date) | 4/3/2013, 78 FR 20001 | Codified version of City of Sandpoint Ordinance No. 965 as amended by Ordinance No. 1237 and Ordinance No. 1258. Sandpoint PM10 Limited Maintenance Plan.
Ada County Ordinance | The 1999 Motor Vehicle Emissions Control Ordinance | 6/15/1999 (County approval date) | 10/28/2002, 67 FR 65713 | Northern Ada County CO Maintenance Plan.
City of Boise Ordinance | The 1999 Motor Vehicle Emissions Control Ordinance | 7/20/1999 (City approval date) | 10/28/2002, 67 FR 65713 | Northern Ada County CO Maintenance Plan.
City of Eagle Ordinance | The 1999 Motor Vehicle Emissions Control Ordinance | 4/27/1999 (City approval date) | 10/28/2002, 67 FR 65713 | Northern Ada County CO Maintenance Plan.
City of Garden City Ordinance | The 1991 Vehicle Emission Control Ordinance | 8/13/1996 (Most recently amended) | 10/28/2002, 67 FR 65713 | Northern Ada County CO Maintenance Plan.
City of Meridian Ordinance | The 1999 Motor Vehicle Emissions Control Ordinance | 6/1/1999 (City approval date) | 10/28/2002, 67 FR 65713 | Northern Ada County CO Maintenance Plan.
Boise City Ordinance 4432 | Parking Permits | 8/13/1979 (City approval date) | 6/6/1985, 50 FR 23810 | Transportation Control Plan for carbon monoxide, Ada County.
City of Garden City Ordinance 514, 533, and 624 | Solid Fuel Heating Appliance Ordinance of the City of Garden City, Idaho | 5/14/1987, 1/10/1989, 9/13/1994 (City approval dates) | 5/30/1996, 61 FR 27019 | Northern Ada County PM10 Nonattainment Area Plan.
Meridian Ordinance 667 | Meridian Clean Air Ordinance | 8/16/1994 (City approval date) | 5/30/1996, 61 FR 27019 | Northern Ada County PM10 Nonattainment Area Plan.
City of Eagle Ordinance 245 | City of Eagle Clean Air Ordinance | 4/26/1994 (City approval date) | 5/30/1996, 61 FR 27019 | Northern Ada County PM10 Nonattainment Area Plan.
Ada County Ordinance 254 | Ada County Clean Air Ordinance | 11/3/1992 (County adoption date) | 5/30/1996, 61 FR 27019 | Northern Ada County PM10 Nonattainment Area Plan.
Table: Ordinance-1 | Explanation of enforcement procedures, responsibilities and sources of funding for the Northern Ada County Wood Burning Control Ordinances | 12/30/1994 (date of table) | 5/30/1996, 61 FR 27019 | Northern Ada County PM10 Nonattainment Area Plan.
City of Pocatello Ordinance 2450 | Residential wood combustion curtailment ordinance | 1/12/1994 | 7/13/2006, 71 FR 39574 | (Portneuf Valley Nonattainment Area Plan and Maintenance Plan).
City of Pocatello Ordinance 2726 | Revised air quality curtailment levels | 9/18/2003 | 7/13/2006, 71 FR 39574 | (Portneuf Valley Nonattainment Area Plan and Maintenance Plan).
City of Chubbuck Ordinance 403 | Residential wood combustion curtailment ordinance | 11/23/1993 | 7/13/2006, 71 FR 39574 | (Portneuf Valley Nonattainment Area Plan and Maintenance Plan).
City of Chubbuck Ordinance 582 | Revised air quality curtailment levels | 12/9/2003 | 7/13/2006, 71 FR 39574 | (Portneuf Valley Nonattainment Area Plan and Maintenance Plan).
City of Clifton Ordinance No. 120 | Ordinance No. 120 | 8/11/2012 | 3/25/2014, 79 FR 16201 | Except Section 9 (Penalty).
City of Dayton Ordinance #287 | Ordinance #287 | 8/8/2012 | 3/25/2014, 79 FR 16201 | Except Section 9 (Penalty).
Franklin City Ordinance No. 2012-9-12 | Solid Fuel Heating Appliances | 9/12/2012 | 3/25/2014, 79 FR 16201 | Except Section 9 (Penalty).
Franklin County Ordinance No. 2012-6-25 | Solid Fuel Heating Appliances | 6/25/2012 | 3/25/2014, 79 FR 16201 | Except Section 9 (Penalty).
City of Oxford Memorandum of Understanding | Solid Fuel Heating Appliances | 10/22/2012 | 3/25/2014, 79 FR 16201 | Except #2 of the MOA and Section 9 of Exhibit A.
City of Preston Ordinance No. 2012-1 | Ordinance No. 2012-1 | 6/11/2012 | 3/25/2014, 79 FR 16201 | Except Section 9 (Penalty).
City of Weston Ordinance No. 2012-01 | Ordinance No. 2012-01 | 8/1/2012 | 3/25/2014, 79 FR 16201 | Except Section 9 (Penalty).
State Statutes
Section 4 of Senate Bill 1024, codified at Idaho Code section 39-114 | Open Burning of Crop Residue | 2/28/2018 | 12/9/2019, 84 FR 67189 |

(d) EPA approved State Source-specific requirements.

EPA Approved Idaho Source-Specific Requirements ¹
Name of source | Permit No. | State effective date | EPA approval date | Explanation
LP Wood Polymers, Inc., Meridian, Idaho | 001-00115 | 7/12/2002 | 10/27/2003, 68 FR 61106 | The following conditions: 1.1, 1.3, 3.1, and the Appendix. (Boise/Ada County Maintenance Plan).
Consolidated Concrete Company, Boise, Idaho | 001-00046 | 12/3/2001 | 10/27/2003, 68 FR 61106 | The following conditions: 1.1, 1.3, 2.3, 3.1, 3.2, and the Appendix. (Boise/Ada County Maintenance Plan).
Crookham Company, Caldwell, Idaho | 027-00020 | 1/18/2002 | 10/27/2003, 68 FR 61106 | The following conditions: 1.1, 1.3, 2.1, 2.3, 3.1, 3.1.1, 3.1.2, 3.2, and the Appendix. (Boise/Ada County Maintenance Plan).
Double D Service Center, Meridian, Idaho | 001-00168 | 2/4/2002 | 10/27/2003, 68 FR 61106 | The following conditions: 1.1, 1.3, 3.1, 3.2.1, 3.2.2, 3.2.3, and the Appendix. (Boise/Ada County Maintenance Plan).
Plum Creek Northwest Lumber, Inc., Meridian, Idaho | 001-00091 | 7/12/2002 | 10/27/2003, 68 FR 61106 | The following conditions: 1.1, 1.3, 2.1.2, 3.1, and the Appendix. (Boise/Ada County Maintenance Plan).
C. Wright Construction, Inc., Meridian, Idaho | T2-000033 | 7/8/2003 | 10/27/2003, 68 FR 61106 | The following conditions: 2 (heading only), 2.5, (2.12, Table 2.2 as it applies to PM10), 2.14, 3 (heading only), 3.3, Table 3.2, 3.4, 3.5, 3.6, 3.7, 3.8, 3.10, 4 (heading only), 4.2, 4.3, 4.4, 4.7, 5, and Table 5.1. (Boise/Ada County Maintenance Plan).
Nelson Construction Co., Boise, Idaho | T2-020029 | 7/21/2003 | 10/27/2003, 68 FR 61106 | The following conditions: 2 (heading only), 2.12, 2.14, 3 (heading only), 3.3, 3.4, 3.6, 3.7, 3.9, 3.10, 3.11, 3.12, 4 (heading only), 4.3, 4.4, 4.5, 4.6, 5, and Table 5.1. (Boise/Ada County Maintenance Plan).
Mike's Sand and Gravel, Nampa, Idaho | 001-00184 | 7/12/2002 | 10/27/2003, 68 FR 61106 | The following conditions: 1.1, 1.3, 2.2.1, 3.1, and the Appendix. (Boise/Ada County Maintenance Plan).
Idaho Concrete Co., Eagle, Idaho | T2-020031 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co., Eagle, Idaho | T2-020032 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co. Eagle, Idaho | T2-020033 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
The Amalgamated Sugar Company LLC, Nampa, Idaho | 027-00010 | 9/30/2002 | 10/27/2003, 68 FR 61106 and 11/1/2004, 69 FR 63324 | The following conditions: 2 (heading only), (2.7, Table 2.2 as it applies to PM10,) 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), 7.3, Table 7.1 as it applies to PM10, 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1 (except as it applies to condition 13.3, 13.3.1, 13.3.2, 13.5, 13.5.1, 13.5.2, 13.5.3, 13.6, 13.6.1, 13.6.2 and 13.9), Table 13.1 (except conditions 13.3, 13.5 and 13.6), (13.2, Table 13.2 as it applies to PM10), 13.2.1, 13.4, 13.4.1, 13.4.2, 13.4.3, 13.7, 13.7.1, 13.7.2, 13.8, 13.8.1, 13.8.2, 13.8.3, 13.10, and 13.11. (Boise/Ada County PM10 Maintenance Plan).
Lake Pre-Mix, Sandpoint, Idaho | 777-00182 | 5/17/1996 | 6/26/2002, 67 FR 43006 | The following conditions for the cement silo vent: 1.1, 2.1.1, 2.1.2, 3.1.1, and 3.1.2. (Sandpoint nonattainment area plan).
Interstate Concrete and Asphalt, Sandpoint, Idaho | 017-00048 | 8/2/1999 | 6/26/2002, 67 FR 43006 | The following conditions: for the asphalt plant, 2.2, 3.1.1, 4.1, 4.1.1, 4.1.2, 4.2.1 (as it applies to the hourly PM10 emission limit in Appendix A), 4.2.2, 4.2.2.1, 4.2.2.2, and 4.2.2.3; for the concrete batch plant, 2.1, 3.1.1, 4.1, 4.1.1, and 4.1.2; Appendix A (as it applies to PM10 emission rates after 7/1/96) and Appendix B (as it applies after 7/1/96). (Sandpoint nonattainment area plan).
Whiteman Lumber Company, Cataldo, ID | 13-1420-062 | 7/16/1979 (date issued) | 7/28/1982, 47 FR 32530 | Silver Valley TSP Nonattainment Area Plan.
Potlatch Corporation, Pulp and Paper Unit, Lewiston, ID | 13-1140-0001-00 | 7/5/1979 (date issued) | 7/28/1982, 47 FR 32530 | Lewiston TSP Nonattainment Area Plan.
Potlatch Corporation, Clearwater Unit, Lewiston, ID | 13-1140-0003 | 7/5/1979 (date issued) | 7/28/1982, 47 FR 32530 | Lewiston TSP Nonattainment Area Plan.
Coast Trading Company, Inc., Lewiston, ID | 13-1140-0011 | 6/29/1979 (date issued) | 7/28/1982, 47 FR 32530 | Lewiston TSP Nonattainment Area Plan.
Lewis-Clark Terminal Association, Lewiston, ID | 13-1140-0010 | 6/29/1979 (date issued) | 7/28/1982, 47 FR 32530 | Lewiston TSP Nonattainment Area Plan.
Poe Asphalt, Lewiston, ID | 0880-0008 | 3/1/1976 (effective date) | 7/28/1982, 47 FR 32530 | Lewiston TSP Nonattainment Area Plan.
FMC Corporation, Pocatello, ID ² | 13-1260-0005 | 2/26/1980 (date issued) | 7/28/1982, 47 FR 32530 | Pocatello TSP Nonattainment Area Plan.
J.R. Simplot, Pocatello, ID | 13-1260-0006-00 | 3/4/1980 (date issued) | 7/28/1982, 47 FR 32530 | Pocatello TSP Nonattainment Area Plan.
Idaho Portland Cement Company, Inkom, ID | 13-0080-0004-00 | 7/18/1979 (date issued) | 7/28/1982, 47 FR 32530 | Pocatello TSP Nonattainment Area Plan.
J.R. Simplot Company, Conda, ID | 13-0420-0021-00 | 7/18/1979 (date issued) | 7/28/1982, 47 FR 32530 | Soda Springs TSP Nonattainment Area Plan.
Beker Industries, Conda, ID | 13-0420-0003-00 | 7/18/1979 (date issued) | 7/28/1982, 47 FR 32530 | Soda Springs TSP Nonattainment Area Plan.
Monsanto, Soda Springs, ID | 13-0420-0001-00 | 7/18/1979 (date issued) | 7/28/1982, 47 FR 32530 | Soda Springs TSP Nonattainment Area Plan.
Kerr McGee, Soda Springs, ID | 13-0420-0002-00 | 7/18/1979 (date issued) | 7/28/1982, 47 FR 32530 | Soda Springs TSP Nonattainment Area Plan.
J.R. Simplot, Pocatello, Idaho | Air Pollution Operating Permit No. T1-9507-114-1; Facility Number No. 077-00006 | 4/5/2004 | 7/13/2006, 71 FR 39574 | The following conditions: Cover page, facility identification information only, #300 Sulfuric Acid Plant, Permit Conditions 16.1, 16.10, 16.11, #400 Sulfuric Acid Plant, Permit Condition 17.1, 17.7, 17.10, 17.11, Phosphoric acid plant, Permit Condition 12.3, 12.13, Granulation No. 3 Process, Permit Condition 9.2.1, Granulation No. 3 stack, 9.17 (except 9.17.1 through 9.17.6), Reclaim Cooling Towers, Permit Condition 14.2, 14.6.1, Babcock & Wilcox Boiler, Permit Condition 6.4, 6.12, HPB&W Boiler, Permit Condition 5.3, 5.13 through 5.18, 5.21.
J.R. Simplot, Pocatello, Idaho | Compliance Agreement & Voluntary Order Idaho Code 39-116A | 4/16/2004 | 7/13/2006, 71 FR 39574 | The following conditions: No. 300 Sulfuric Acid Plant; Condition 8 and 9. No. 400 Sulfuric Acid Plant; Condition 10, 11, and 12. Granulation No.1 Plant; Condition 14. Granulation No.2 Plant; Condition 15. Compliance and Performance Testing; Condition 16.
The Amalgamated Sugar Company LLC—Nampa Factory, Nampa, Idaho | T2-2009.0105 | 12/23/2011 (date issued) | 4/28/2014, 79 FR 23273 | The following conditions: 1.2, including the table of Regulated Emission Point Sources Table, 3.2, 3.3 (first paragraph only), 3.4, 3.5, 3.6, 3.7, 3.8, 3.9, 3.11, 3.13, 3.14, 3.15, 3.16, and 4.1.
P4 Production, L.L.C., Soda Springs, Idaho | T2-2009.0109 | 11/17/2009 (date issued) | 6/22/2011, 76 FR 36329 | The following conditions: 1.2 (including Table 1.1), 2.3, 2.4, 2.5, 2.6, 2.7, and 2.8. (Regional Haze SIP Revision).
¹ EPA does not have the authority to remove these source-specific requirements in the absence of a demonstration that their removal would not interfere with attainment or maintenance of the NAAQS, violate any prevention of significant deterioration increment or result in visibility impairment. Idaho Department of Environmental Quality may request removal by submitting such a demonstration to EPA as a SIP revision.
² Only a small portion of this facility is located on State lands. The vast majority of the facility is located in Indian Country. It is EPA's position that unless EPA has explicitly approved a program as applying in Indian country, State or local regulations or permits are not effective within the boundaries of that Indian country land for purposes of complying with the CAA. 68 FR 2217, 2220 (January 16, 2003).

* * * * *

[FR Doc. 2020-15395 Filed 7-23-20; 8:45 am]

BILLING CODE 6560-50-P